DEPARTMENT OF AGRICULTURE

Forest Service

Kootenai National Forest, Fortine Ranger District, Montana; Galton Environmental Impact Statement

AGENCY: Forest Service, USDA.

ACTION: Notice of intent to prepare an environmental impact statement.

SUMMARY: The USDA—Forest Service will prepare an Environmental Impact Statement (EIS) to disclose the environmental effects of transportation system and access management alternatives, vegetation management alternatives, and recreation project alternatives in the Galton Decision Area (Decision Area) on the Fortine Ranger District of the Kootenai National Forest. The Forest Service is seeking comments from Federal, State, and local agencies and individuals and organizations that may be interested in or affected by the proposed actions. The comments will be used to prepare the draft EIS (DEIS).

DATES: Written comments concerning the scope of the analysis must be postmarked or received within 30 days following publication of this notice. The draft environmental impact statement is expected in May of 2010 and the final environmental impact statement is expected in November of 2010.

ADDRESSES: Send written comments concerning the proposed action to Betty Holder, District Ranger, Fortine Ranger District, P.O. Box 116, Fortine, MT 59918. All comments must contain: Name of commenter, postal service mailing address, and date of comment.

FOR FURTHER INFORMATION CONTACT: Moira McKelvey, Writer/Editor, Fortine Ranger District, P.O. Box 116, Fortine, MT 59918.

SUPPLEMENTARY INFORMATION: The Decision Area is located east of US Highway 93 from the U.S./Canada border to the Kootenai National Forest boundary south of Dickey Lake and includes a small portion of National Forest System Lands (NFSL) west of U.S. Highway 93 in the Dickey Lake and Ant Flat area. The Decision Area encompasses all of three (3) Planning Areas (Wigwam, Grave, and Murphy) and the Fortine Ranger District portions of two (2) Planning Areas (Stillwater and Ksanka). This area includes the Ten Lakes Wilderness Study Area (WSA), the Ten Lakes Scenic Area, Grave Creek, Therriault Lakes. Dickey Lake, Marston, and Ant Flat. The boundary for this project covers approximately 170,300 acres of which approximately 127,380 acres is National Forest System Land.

Purpose and Need for Action

The purpose and need for the project is to: (1) Provide the minimum system of roads and road uses that are needed for Forest Service land management activities and recreational access while reducing road impact to water quality and secure wildlife habitat and reducing road maintenance costs; (2) Provide trail loop opportunities and trail access to remote areas; (3) Provide ATV and motorcycle enthusiasts with trails on which they can ride their non-street legal vehicles and where nonlicensed riders can ride; (4) Designate mountain bike use that is compatible with the Montana Wilderness Study Act; (5) Designate allowed non-winter uses on all trails to reduce potential conflicts between user groups; (6) Designate over-snow vehicle use that is compatible with the Montana Wilderness Study Act while minimizing impacts to wildlife species such as grizzly bear; (7) Provide quiet winter recreation areas (non-motorized); (8) Provide a shelter facility for winter recreation users; (9) Reduce fuels within the wildland urban interface; (10) Create openings to provide big game browse; (11) Improve habitat for whitebark pine stand survival and regeneration; (12) Re-establish the natural role of fire in the ecosystem; (13) Provide a stable flow of timber products for the local and regional economy; and (14) Enhance recreational use and safety.

Proposed Action

The Proposed Action would result in a year round travel plan for the Galton Project Area, which includes the Ten Lakes Wilderness Study Area. Over-snow vehicle use would be allowed from 12/1 through 3/31 in a regular season on 26 miles of designated trail routes leading to 38,411 acres of contiguous National Forest System Lands open to over-snow vehicle use. Over-snow vehicle use would be allowed in a late season from 4/1 to 5/31 on 31 miles of designated trail leading to 4,445 acres of contiguous National Forest System Lands open to over-snow vehicle use. The access within the open areas can be limited due to natural features such as terrain and vegetation.

7.65 miles of road would be restricted for quiet winter recreation. The non-winter portion of the travel plan includes trail use designations to minimize conflict between user groups. The Proposed Action includes construction of 15.25 miles of new trail and the reconstruction of 2 miles of trail. The Proposed Action also would result in the conversion of 20.12 miles of road currently managed as trail to non-motorized trail and 7.85 miles of road converted to motorized trail. Additionally, 20.35 miles of road are proposed for decommissioning and 24.26 miles of road to be put into intermittent stored service. 9.56 miles of road are proposed to be restricted for all motorized use in Big Game Winter Range with an additional 4.69 miles of road restricted for over-snow vehicle use in Big Game Winter Range.

The Proposed Action would result in 9,043 acres of fuel treatment. This includes 191. acres of non-commercial understory thinning, 7,973 acres of prescribed burning only, and 879 acres of prescribed burning with mechanical pretreatment.

The Forest Service proposes to complete 1,814 acres of commercial vegetation management. This includes 226 acres of regeneration harvest (shelterwood and seedtree prescriptions) and 133 acres of regeneration harvest in clearcut with reserves prescription. The Proposed Action also calls for 46 acres of commercial thinning along with 1,368 acres of improvement cutting as intermediate harvests. 41 acres are proposed to be cut for vista enhancement. The Forest Service also proposes to restore Locke Cabin, improve the parking facility at Murphy Lake, make improvements to camping facilities at the Bunchgrass dispersed camping site, improve the picnic and day use area at Little Therriault Lake, and construct a warming pavilion at Big Therriault Lake.

The Proposed Action also includes a number of special use permits which will expire during the period this project will be implemented.

Possible Alternatives

The Forest Service will consider a range of alternatives. One of these will be the “no action” alternative, in which none of the proposed activities will be implemented. Additional alternatives will be considered to achieve the project's purpose and need for action, and to respond to specific resource issues and public concerns.

Responsible Official

Paul Bradford, Forest Supervisor, Kootenai National Forest, 31374 Highway 2 West, Libby, MT 59923.

Nature of the Decision To Be Made

A 2007 lawsuit settlement agreement with the Montana Wilderness Association commits the Forest Service to develop summer and winter travel plans for the Ten Lakes Wilderness Study Area. The Galton Project includes travel planning for the Ten Lakes WSA. This project will also reduce hazardous fuels within and outside the wildland-urban interface, provide 6.0 MMBF of commercial forest products, provide for recreation facilities, and evaluate special use permits.

Scoping Process

Beginning in January 2008, efforts were made to involve the public in considering management opportunities within the Decision Area. Open houses were held on February 13, 25, and 26, 2008. A scoping package was mailed for public review on June 29, 2009. The proposal will be included in the quarterly Schedule of Proposed Actions. Comments received prior to this notice will be included in the documentation for the EIS.

Preliminary Issues

Preliminary issues identified include access, including roads, mountain bikes and over-snow vehicles.

Comment Requested

This notice of intent initiates the scoping process which guides the development of the environmental impact statement. At this stage of the planning process, site-specific public comments are being requested to determine the scope of the analysis, and identify significant issues and alternatives to the Proposed Action.

Early Notice of Importance of Public Participation in Subsequent Environmental Review

A draft environmental impact statement will be prepared for comment. The comment period on the draft environmental impact statement will be 45 days from the date the Environmental Protection Agency published the notice of availability in the Federal Register. The Forest Service believes it is important to give reviewers notice of several court rulings related to public participation in the environmental review process. First, reviews of DEIS' must structure their participation in the environmental review of the proposal so that it is meaningful and alerts an agency to the reviewer's position and contentions. Vermont Yankee Nuclear Power Corp. v. NRDC, 435 U.S. 519, 553 (1978). Also, environmental objections that could be raised at the draft environmental impact stage may be waived or dismissed by the courts. City of Angoon v. Hodel, 803, F. 2d 1016, 1022 (9th Cir. 1986) and Wisconsin Heritages, Inc. v. Harris, 490 F. Supp. 1334, 1338 (ED, Wis. 1980). Because of these court rulings, it is very important that those interested in this proposed action participate by the close of the 45-day comment period so that substantive comments and objections are made available to the Forest Service at a time when it can meaningfully consider and respond to them in the final environmental impact statement.

To assist the Forest Service in identifying and considering issues and concerns on the proposed action, comments on the draft environmental impact statement should be as specific as possible. It is also helpful if comments refer to specific pages or chapters of the draft statements. Comments may also address the adequacy of the draft environmental impact statement or the merits of the alternatives formulated and discussed in the statement. Reviewers may wish to refer to the Council on Environmental Quality Regulations for implementing the procedural provisions of The National Environmental Policy Act at 40 CFR 1503.3 in addressing these points.

Paul Bradford,
Forest Supervisor.

[FR Doc. 2010-4687 Filed 3-5-10; 8:45 am]

BILLING CODE 3410-11-M